DEPARTMENT OF COMMERCE

National Oceanic and Atmospheric Administration

[I.D. 050806D]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application from the Cape Cod Commercial Hook Fishermen's Association (CCCHFA) for exemptions from the Georges Bank Closed Areas (CA) I and II, Western Gulf of Maine (WGOM) Closure Area, Cashes Ledge (Cashes) Closure Area, and Rolling Closure Areas III and IV, as well as the GB hook gear restrictions, for the purposes of tagging haddock, contains all of the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before May 30, 2006.

ADDRESSES: Comments on this notice may be submitted by e-mail. The mailbox address for providing e-mail comments is DA6_093@noaa.gov. Include in the subject line of the e-mail comment the following document identifier: “Comments on CCCHFA EFP Proposal for Haddock Tagging Study (DA6-093).” Written comments should be sent to Patricia A. Kurkul, Regional Administrator, NMFS, Northeast Regional Office, 1 Blackburn Drive, Gloucester, MA 01930. Mark the outside of the envelope “Comments on CCCHFA EFP Proposal for Haddock Tagging Study (DA6-093).” Comments may also be sent via facsimile (fax) to (978) 281-9135. Copies of the Environmental Assessment (EA) are available from the NE Regional Office at the same address.

FOR FURTHER INFORMATION CONTACT: Moira Kelly, Fishery Management Specialist, phone: 978-281-9218, fax: 978-281-9135.

SUPPLEMENTARY INFORMATION: An application for an EFP was submitted by CCCHFA, in collaboration with the Gulf of Maine Research Institute and the Northeast Fisheries Science Center (NEFSC), on March 14, 2006. The EFP would exempt 24 federally permitted commercial fishing vessels for no more than 36 trips, from the following requirements of the FMP: NE multispecies closed area restrictions specified at § 648.81(a), (b), (d), (e), and (f)(i)(iii) and (iv) for the purpose of providing access to haddock stocks within GB CA I, GB CA II, Cashes, the WGOM Closure Area, and Rolling Closure Areas III and IV, respectively; and the NE multispecies GOM hook gear restrictions specified at § 648.80(a)(3)(v) and GB hook gear restrictions specified at § 648.80(a)(4)(v), in order to allow fishing for the purposes of tagging viable fish without hook gear restrictions.

Researchers request that the study would be conducted from May 2006 through April 2007. This is the second year of the project. Fishing would take place aboard a maximum of 24 different fishing vessels and would not exceed 36 trips, fishing under NE multispecies A DAS. The vessels participating in this study are members of the GB Cod Hook Sector (Sector), as well as non-Sector members. Per Sector rules, all cod caught by Sector vessels under this EFP would be attributed to the overall Sector cod total allowable catch (TAC), and Sector vessels would only be able to participate at study sites within the approved Sector area. All research conducted outside of the Sector Area would be completed by non-Sector participants. The CCCHFA Program Coordinator, NEFSC scientists, or trained fishermen “technicians” would be aboard tagging vessels for 100 percent of dedicated tagging trips. Only the most vigorous haddock caught would be tagged and released to maximize their chance of survival. It is estimated that 250 haddock would be tagged and released each trip. All legal catch not tagged would be landed and sold, consistent with the current daily and trip possession landing limits. The EFP would not provide exemptions from the Eastern U.S./Canada Management Area closures, should this area or portions of this area be closed due to attainment of the U.S./Canada TACs of GB cod, GB haddock, or GB yellowtail flounder. Undersized fish would be returned to the sea as quickly as possible. The participating vessels would be required to report all landings in their Vessel Trip Reports.

The goal of this study is to assess haddock movement between stock areas and across closure area boundaries. The proposed project would test existing assumptions about haddock movement rates between the GOM and GB, haddock movement rates between the eastern and western GB regulated areas, and haddock movement rates in and out of the closure areas. Researchers propose to use benthic longline gear consisting of hooks with fabricated baits (Norbait or Trident) that target haddock and reduce cod bycatch. An estimated total of 10,500 Hallmark T-bar tags would be deployed in the closure areas as follows: CA I (38 percent of tags); CA II (9.5 percent of tags); WGOM Closure Area (19 percent of tags); and Cashes (5 percent of tags). The remaining tags would be deployed in open areas of GB (19 percent of tags) and the GOM (9.5 percent of tags). Researchers under this tagging study would be allowed to catch a maximum of 104,052 lb (47,198 kg) of haddock and 3,625 lb (1,645 kg) of cod within the closure areas. Catch limits would reflect tagging effort in closure areas, on GB (62,980 lb (28,567 kg) of haddock, 1,575 lb (715 kg) of cod) and within the GOM (41,072 lb (18,630 kg) haddock, 1,420 lb (644 kg) cod). A total of 35 percent of haddock caught is estimated to be viable for tagging. Thus, vessels would not be allowed to land more 65 percent of their overall haddock catch from the GB (40,937 lb (18,569 kg)) and GOM (26,697 lb (12,110 kg)) closure areas. If any of the maximum limits (haddock caught, haddock landed, or cod caught) is reached within GB or the GOM, vessels would not be allowed to continue fishing in the corresponding closure areas.

The target fishery is the groundfish mixed-species fishery. The main species expected to be caught under this EFP are haddock and Atlantic cod. Other commercially important fish commonly found in the groundfish fishery are expected to be caught incidentally. In the previous study conducted in 2005, the incidental catch that was kept was comprised primarily of cusk and redfish. The incidental catch that was discarded consisted primarily of skates and spiny dogfish. Other species that were encountered were red hake, monkfish, pollock, and wolffish. Of the groundfish stocks of concern, no yellowtail flounder, winter flounder, or witch flounder were caught during year 1 of the study, and minimal amounts of American plaice (approximately 8 lb (4 kg)) and white hake (approximately 38 lb (17 kg)) were caught and landed.

The applicant may make requests to NMFS for minor modifications and extensions to the EFP throughout the year. EFP modifications and extensions may be granted by NMFS without further notice if they are deemed essential to facilitate completion of the proposed research and result in only a minimal change in the scope or impact of the initially approved EFP request. The applicant has prepared a draft Environmental Assessment (EA) that analyzes the impacts of the proposed experimental fishery on the human environment. The draft EA examines whether the proposed activities are consistent with the goals and objectives of the FMP, whether they would be detrimental to the well-being of any stocks of fish harvested, and whether they would have any significant environmental impacts. The draft EA also examines whether the proposed experimental fishery would be detrimental to essential fish habitat, marine mammals, or protected species. After publication of this document in the Federal Register, the EFP, if approved, may become effective following a 15-day public comment period.

Authority: 16 U.S.C. 1801 et seq.

Dated: May 9, 2006.
James P. Burgess,
Acting Director, Office of Sustainable Fisheries, National Marine Fisheries Service.

[FR Doc. E6-7272 Filed 5-11-06; 8:45 am]

BILLING CODE 3510-22-S